DEPARTMENT OF ENERGY

Federal Energy Regulatory Commission

[Project No. 14616-000]

Oregon State University; Notice of Intent To File License Application, Filing of Pre-Application Document, and Approving Use of the Alternative Licensing Procedures

a. Type of Filing: Notice of Intent to File License Application and Request to Use the Alternative Licensing Procedures.

b. Project No.: P-14616-000.

c. Dated Filed: April 15, 2014.

d. Submitted By: Oregon State University.

e. Name of Project: Pacific Marine Energy Test Center South Energy Test Site.

f. Location: Pacific Ocean—Outer Continental Shelf off central Oregon coast near city of Newport, Oregon.

g. Filed Pursuant to: 18 CFR 5.3 of the Commission's regulations.

h. Potential Applicant Contact: Belinda Batten, Oregon State University, 350 Batcheller Hall, Corvallis, OR 97331; (541) 737-9492; email at Belinda.Batten@oregonstate.edu.

i. FERC Contact: Jim Hastreiter at (503) 552-2760; or email at james.hastreiter@ferc.gov.

j. Oregon State University filed its request to use the Alternative Licensing Procedures on April 15, 2014. Oregon State University provided public notice of its request on May 8, 2014. In a letter dated May 27, 2014, the Director of the Office of Energy Projects approved Oregon State University's request to use the Alternative Licensing Process.

k. Cooperating agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

l. With this notice, we are initiating informal consultation with: (a) the U.S. Fish and Wildlife Service and NOAA Fisheries under section 7 of the Endangered Species Act and the joint agency regulations thereunder at 50 CFR, Part 402; (b) NOAA Fisheries under section 305(b) of the Magnuson-Stevens Fishery Conservation and Management Act and implementing regulations at 50 CFR 600.920; and (c) the Alaska State Historic Preservation Officer, as required by section 106, National Historical Preservation Act, and the implementing regulations of the Advisory Council on Historic Preservation at 36 CFR. 800.2.

m. With this notice, we are designating Oregon State University as the Commission's non-federal representative for carrying out informal consultation, pursuant to section 7 of the Endangered Species Act, and section 305 of the Magnuson-Stevens Fishery Conservation and Management Act; and consultation pursuant to section 106 of the National Historic Preservation Act.

n. Oregon State University filed a Pre-Application Document (PAD; including a proposed process plan, schedule, and communications protocol) with the Commission, pursuant to 18 CFR 5.6 of the Commission's regulations.

o. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

p. Register online at http://www.ferc.gov/docs-filing/esubscription.asp to be notified via email of new filing and issuances related to this or other pending projects. For assistance, contact FERC Online Support.

Dated: May 27, 2014.
Kimberly D. Bose,
Secretary.

[FR Doc. 2014-12882 Filed 6-3-14; 8:45 am]

BILLING CODE 6717-01-P